ENVIRONMENTAL PROTECTION AGENCY

40 CFR Part 55

[OAR-2004-0091; FRL-8542-3]

Outer Continental Shelf Air Regulations Consistency Update for California

AGENCY: Environmental Protection Agency (“EPA”).

ACTION: Final rule—consistency update.

SUMMARY: EPA is finalizing the updates of the Outer Continental Shelf (“OCS”) Air Regulations proposed in the Federal Register on November 16, 2007. Requirements applying to OCS sources located within 25 miles of states' seaward boundaries must be updated periodically to remain consistent with the requirements of the corresponding onshore area (“COA”), as mandated by section 328(a)(1) of the Clean Air Act Amendments of 1990 (“the Act”). The portions of the OCS air regulations that are being updated pertain to the requirements for OCS sources for which the Santa Barbara County Air Pollution Control District, South Coast Air Quality Management District, and Ventura County Air Pollution Control District are the designated COA. The intended effect of approving the requirements contained in “Santa Barbara County Air Pollution Control District Requirements Applicable to OCS Sources” (December, 2007), “South Coast Air Quality Management District Requirements Applicable to OCS Sources” (Parts I, II and III) (December, 2007), and “Ventura County Air Pollution Control District Requirements Applicable to OCS Sources” (December, 2007) is to regulate emissions from OCS sources in accordance with the requirements onshore.

DATES: Effective Date: This rule is effective on May 29, 2008.

The incorporation by reference of certain publications listed in this rule is approved by the Director of the Federal Register as of May 29, 2008.

ADDRESSES: EPA has established docket number OAR-2004-0091 for this action. The index to the docket is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Cynthia Allen, Air Division, U.S. EPA Region IX, (415) 947-4120, allen.cynthia@epa.gov.

SUPPLEMENTARY INFORMATION:

Table of Contents

I. Background

II. Public Comment

III. EPA Action

IV. Administrative Requirements

A. Executive Order 12866, Regulatory Planning and Review

B. Paperwork Reduction Act

C. Regulatory Flexibility Act

D. Unfunded Mandates Reform Act

E. Executive Order 13132, Federalism

F. Executive Order 13175, Coordination With Indian Tribal Governments

G. Executive Order 13045, Protection of Children From Environmental Health Risks and Safety Risks

H. Executive Order 13211, Actions That Significantly Affect Energy Supply, Distribution, or Use

I. National Technology Transfer and Advancement Act

J. Congressional Review Act

K. Petitions for Judicial Review

I. Background

Throughout this document, the terms “we”, “us,” and “our” refer to U.S. EPA.

On November 16, 2007 (72 FR 64563), EPA proposed to approve requirements into the OCS Air Regulations pertaining to Santa Barbara County APCD, South Coast AQMD, and Ventura County APCD. These requirements are being promulgated in response to the submittal of rules from these California air pollution control agencies. EPA has evaluated the proposed requirements to ensure that they are rationally related to the attainment or maintenance of federal or state ambient air quality standards or Part C of title I of the Act, that they are not designed expressly to prevent exploration and development of the OCS and that they are applicable to OCS sources. 40 CFR 55.1. EPA has also evaluated the rules to ensure that they are not arbitrary or capricious. 40 CFR 55.12(e). In addition, EPA has excluded administrative or procedural rules.

Section 328(a) of the Act requires that EPA establish requirements to control air pollution from OCS sources located within 25 miles of states' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's state implementation plan (SIP) guidance or certain requirements of the Act. Consistency updates may result in the inclusion of state or local rules or regulations into part 55, even though the same rules may ultimately be disapproved for inclusion as part of the SIP. Inclusion in the OCS rule does not imply that a rule meets the requirements of the Act for SIP approval, nor does it imply that the rule will be approved by EPA for inclusion in the SIP.

II. Public Comments

EPA's proposed action provided a 30-day public comment period. During this period, we received no comments on the proposed action.

III. EPA Action

In this document, EPA takes final action to incorporate the proposed changes into 40 CFR part 55. No changes were made to the proposed action. EPA is approving the proposed action under section 328(a)(1) of the Act, 42 U.S.C. 7627. Section 328(a) of the Act requires that EPA establish requirements to control air pollution from OCS sources located within 25 miles of states' seaward boundaries that are the same as onshore requirements. To comply with this statutory mandate, EPA must incorporate applicable onshore rules into Part 55 as they exist onshore.

IV. Administrative Requirements

A. Executive Order 12866, Regulatory Planning and Review

Under Executive Order 12866 (58 FR 51735 (October 4, 1993)), the Agency must determine whether the regulatory action is “significant” and therefore subject to Office of Management and Budget (“OMB”) review and the requirements of the Executive Order. The Order defines “significant regulatory action” as one that is likely to result in a rule that may:

1. Have an annual effect on the economy of $100 million or more or adversely affect in a material way the economy, a sector of the economy, productivity, competition, jobs, the environment, public health or safety, or State, local, or tribal governments or communities;

2. Create a serious inconsistency or otherwise interfere with an action taken or planned by another agency;

3. Materially alter the budgetary impact of entitlements, grants, user fees, or loan programs or the rights and obligations of recipients thereof; or

4. Raise novel legal or policy issues arising out of legal mandates, the President's priorities, or the principles set forth in the Executive Order.

This action is not a “significant regulatory action” under the terms of Executive Order 12866 and is therefore not subject to OMB Review. This rule implements requirements specifically and explicitly set forth by the Congress in section 328 of the Clean Air Act, without the exercise of any policy discretion by EPA. These OCS rules already apply in the COA, and EPA has no evidence to suggest that these OCS rules have created an adverse material effect. As required by section 328 of the Clean Air Act, this action simply updates the existing OCS requirements to make them consistent with rules in the COA.

B. Paperwork Reduction Act

The OMB has approved the information collection requirements contained in 40 CFR part 55, and by extension this update to the rules, under the provisions of the Paperwork Reduction Act, 44 U.S.C. 3501 et seq. and has assigned OMB control number 2060-0249. Notice of OMB's approval of EPA Information Collection Request (“ICR”) No. 1601.06 was published in the Federal Register on March 1, 2006 (71 FR 10499-10500). The approval expires January 31, 2009.

As EPA previously indicated (70 FR 65897-65898 (November 1, 2005)), the annual public reporting and recordkeeping burden for collection of information under 40 CFR part 55 is estimated to average 549 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, EPA is amending the table in 40 CFR part 9 of currently approved OMB control numbers for various regulations to list the regulatory citations for the information requirements contained in this final rule.

C. Regulatory Flexibility Act

The Regulatory Flexibility Act (“RFA”) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant economic impact on a substantial number of small entities. This rule implements requirements specifically and explicitly set forth by the Congress in section 328 of the Clean Air Act, without the exercise of any policy discretion by EPA. These OCS rules already apply in the COA, and EPA has no evidence to suggest that these OCS rules have had a significant economic impact on a substantial number of small entities. As required by section 328 of the Clean Air Act, this action simply updates the existing OCS requirements to make them consistent with rules in the COA. Therefore, I certify that this action will not have a significant economic impact on a substantial number of small entities.

D. Unfunded Mandates Reform Act

Title II of the Unfunded Mandates Reform Act of 1995 (“UMRA”), Public Law 104-4, establishes requirements for Federal agencies to assess the effects of their regulatory actions on State, local, and tribal governments and the private sector. Under section 202 of the UMRA, EPA generally must prepare written statements, including a cost-benefit analysis, for proposed and final rules with “Federal mandates” that may result in expenditures to State, local, and tribal governments, in the aggregate, or to the private sector, of $100 million of more in any one year.

Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted.

Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's final rule contains no Federal mandates (under the regulatory provisions of Title II of the UMRA) for State, local, or tribal governments or the private sector that may result in expenditures of $100 million or more for State, local, or tribal governments, in the aggregate, or to the private sector in any one year. This rule implements requirements specifically and explicitly set forth by the Congress in section 328 of the Clean Air Act without the exercise of any policy discretion by EPA. These OCS rules already apply in the COA, and EPA has no evidence to suggest that these OCS rules have created an adverse material effect. As required by section 328 of the Clean Air Act, this action simply updates the existing OCS requirements to make them consistent with rules in the COA.

E. Executive Order 13132, Federalism

Executive Order 13132, entitled “Federalism” (64 FR 43255 (August 10, 1999)), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This rule implements requirements specifically and explicitly set forth by the Congress in section 328 of the Clean Air Act, without the exercise of any policy discretion by EPA. As required by section 328 of the Clean Air Act, this rule simply updates the existing OCS rules to make them consistent with current COA requirements. This rule does not amend the existing provisions within 40 CFR part 55 enabling delegation of OCS regulations to a COA, and this rule does not require the COA to implement the OCS rules. Thus, Executive Order 13132 does not apply to this rule.

F. Executive Order 13175, Coordination With Indian Tribal Governments

Executive Order 13175, entitled “Consultation and Coordination with Indian Tribal Governments” (65 FR 67249 (November 9, 2000)), requires EPA to develop an accountable process to ensure “meaningful and timely input by tribal officials in the development of regulatory policies that have tribal implications.” This final rule does not have a substantial direct effect on one or more Indian tribes, on the relationship between the Federal Government and Indian tribes or on the distribution of power and responsibilities between the Federal Government and Indian tribes and thus does not have “tribal implications,” within the meaning of Executive Order 13175. This rule implements requirements specifically and explicitly set forth by the Congress in section 328 of the Clean Air Act, without the exercise of any policy discretion by EPA. As required by section 328 of the Clean Air Act, this rule simply updates the existing OCS rules to make them consistent with current COA requirements. In addition, this rule does not impose substantial direct compliance costs on tribal governments, nor preempt tribal law. Consultation with Indian tribes is therefore not required under Executive Order 13175.

G. Executive Order 13045, Protection of Children From Environmental Health Risks and Safety Risks

Executive Order 13045: “Protection of Children from Environmental Health Risks and Safety Risks” (62 FR 19885 (April 23, 1997)), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to Executive Order 13045 because it is not economically significant as defined in Executive Order 12866. In addition, the Agency does not have reason to believe the environmental health or safety risks addressed by this action present a disproportional risk to children.

H. Executive Order 13211, Actions That Significantly Affect Energy Supply, Distribution, or Use

This final rule is not subject to Executive Order 13211, “Actions Concerning Regulations That Significantly Affect Energy Supply, Distribution, or Use” (66 FR 28355 (May 22, 2001)) because it is not a significant regulatory action under Executive Order 12866.

I. National Technology Transfer and Advancement Act

Section 12(d) of the National Technology Transfer and Advancement Act of 1995 (“NTTAA”), Public Law 104-113, 12(d) (15 U.S.C. 272 note) directs EPA to use voluntary consensus standards in its regulatory activities unless to do so would be inconsistent with applicable laws or otherwise impractical. Voluntary consensus standards are technical standards (e.g., materials specifications, test methods, sampling procedures, and business practices) that are developed or adopted by voluntary consensus standards bodies. The NTTAA directs EPA to provide Congress, through OMB, explanations when the Agency decided not to use available and applicable voluntary consensus standards.

As discussed above, this rule implements requirements specifically and explicitly set forth by the Congress in section 328 of the Clean Air Act, without the exercise of any policy discretion by EPA. As required by section 328 of the Clean Air Act, this final rule simply updates the existing OCS rules to make them consistent with current COA requirements. In the absence of a prior existing requirement for the state to use voluntary consensus standards and in light of the fact that EPA is required to make the OCS rules consistent with current COA requirements, it would be inconsistent with applicable law for EPA to use voluntary consensus standards in this action. Therefore, EPA is not considering the use of any voluntary consensus standards.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This action will be effective May 29, 2008.

K. Petitions for Judicial Review

Under section 307(b)(1) of the Clean Air, petitions for judicial review of this action must be filed in the United States Court of Appeals for the appropriate circuit by June 30, 2008. Filing a petition for reconsideration by the Administrator of this final action does not affect the finality of this action for the purposes of judicial review nor does it extend the time within which a petition for judicial review may be filed, and shall not postpone the effectiveness of such rule or action. This action may not be challenged later in proceedings to enforce its requirements. (See section 307(b)(2))

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and Recordkeeping requirements, Sulfur oxides.

Dated: December 28, 2007.
Laura Yoshii,
Acting Regional Administrator, Region IX.

40 CFR part 55 is amended as follows:

PART 55—[AMENDED]

1. The authority citation for part 55 continues to read as follows:

Authority: Section 328 of the Clean Air Act (42 U.S.C. 7401, et seq.) as amended by Public Law 101-549.

2. Section 55.14 is amended by revising paragraphs (e)(3)(ii)(F), (G) and (H) to read as follows:

§ 55.14 Requirements that apply to OCS sources located within 25 miles of states seaward boundaries, by state.

* * * * *

(e) * * *

(3) * * *

(ii) * * *

(F) Santa Barbara County Air Pollution Control District Requirements Applicable to OCS Sources, December 2007.

(G) South Coast Air Quality Management District Requirements Applicable to OCS Sources (Part I, II and Part III), December 2007.

(H) Ventura County Air Pollution Control District Requirements Applicable to OCS Sources, December 2007.

* * * * *

3. Appendix A to CFR part 55 is amended by revising paragraphs (b)(6), (7), and (8) under the heading “California” to read as follows:

Appendix A to Part 55—Listing of State and Local Requirements Incorporated by Reference Into Part 55, by State

* * * * *

California

* * * * *

(b) * * *

(6) The following requirements are contained in Santa Barbara County Air Pollution Control District Requirements Applicable to OCS Sources:

Rule 102 Definitions (Adopted 01/20/05)

Rule 103 Severability (Adopted 10/23/78)

Rule 106 Notice to Comply for Minor Violations (Repealed 01/01/2001)

Rule 107 Emergencies (Adopted 04/19/01)

Rule 201 Permits Required (Adopted 04/17/97)

Rule 202 Exemptions to Rule 201 (Adopted 03/17/05)

Rule 203 Transfer (Adopted 04/17/97)

Rule 204 Applications (Adopted 04/17/97)

Rule 205 Standards for Granting Permits (Adopted 04/17/97)

Rule 206 Conditional Approval of Authority To Construct or Permit To Operate (Adopted 10/15/91)

Rule 207 Denial of Application (Adopted 10/23/78)

Rule 210 Fees (Adopted 03/17/05)

Rule 212 Emission Statements (Adopted 10/20/92)

Rule 219 Equipment Not Requiring a Written Permit Pursuant to Regulation II (Adopted 6/1/07)

Rule 301 Circumvention (Adopted 10/23/78)

Rule 302 Visible Emissions (Adopted 10/23/78)

Rule 304 Particulate Matter—Northern Zone (Adopted 10/23/78)

Rule 305 Particulate Matter Concentration—Southern Zone (Adopted 10/23/78)

Rule 306 Dust and Fumes—Northern Zone (Adopted 10/23/78)

Rule 307 Particulate Matter Emission Weight Rate—Southern Zone (Adopted 10/23/78)

Rule 308 Incinerator Burning (Adopted 10/23/78)

Rule 309 Specific Contaminants (Adopted 10/23/78)

Rule 310 Odorous Organic Sulfides (Adopted 10/23/78)

Rule 311 Sulfur Content of Fuels (Adopted 10/23/78)

Rule 312 Open Fires (Adopted 10/02/90)

Rule 316 Storage and Transfer of Gasoline (Adopted 04/17/97)

Rule 317 Organic Solvents (Adopted 10/23/78)

Rule 318 Vacuum Producing Devices or Systems—Southern Zone (Adopted 10/23/78)

Rule 321 Solvent Cleaning Operations (Adopted 09/18/97)

Rule 322 Metal Surface Coating Thinner and Reducer (Adopted 10/23/78)

Rule 323 Architectural Coatings (Adopted 11/15/01)

Rule 324 Disposal and Evaporation of Solvents (Adopted 10/23/78)

Rule 325 Crude Oil Production and Separation (Adopted 07/19/01)

Rule 326 Storage of Reactive Organic Compound Liquids (Adopted 01/18/01)

Rule 327 Organic Liquid Cargo Tank Vessel Loading (Adopted 12/16/85)

Rule 328 Continuous Emission Monitoring (Adopted 10/23/78)

Rule 330 Surface Coating of Metal Parts and Products (Adopted 01/20/00)

Rule 331 Fugitive Emissions Inspection and Maintenance (Adopted 12/10/91)

Rule 332 Petroleum Refinery Vacuum Producing Systems, Wastewater Separators and Process Turnarounds (Adopted 06/11/79)

Rule 333 Control of Emissions from Reciprocating Internal Combustion Engines (Adopted 04/17/97)

Rule 342 Control of Oxides of Nitrogen (NOX from Boilers, Steam Generators and Process Heaters) (Adopted 04/17/97)

Rule 343 Petroleum Storage Tank Degassing (Adopted 12/14/93)

Rule 344 Petroleum Sumps, Pits, and Well Cellars (Adopted 11/10/94)

Rule 346 Loading of Organic Liquid Cargo Vessels (Adopted 01/18/01)

Rule 352 Natural Gas-Fired Fan-Type Central Furnaces and Residential Water Heaters (Adopted 09/16/99)

Rule 353 Adhesives and Sealants (Adopted 08/19/99)

Rule 359 Flares and Thermal Oxidizers (Adopted 06/28/94)

Rule 360 Emissions of Oxides of Nitrogen From Large Water Heaters and Small Boilers (Adopted 10/17/02)

Rule 370 Potential To Emit—Limitations for Part 70 Sources (Adopted 06/15/95)

Rule 505 Breakdown Conditions Sections A.,B.1., and D. Only (Adopted 10/23/78)

Rule 603 Emergency Episode Plans (Adopted 06/15/81)

Rule 702 General Conformity (Adopted 10/20/94)

Rule 801 New Source Review (Adopted 04/17/97)

Rule 802 Nonattainment Review (Adopted 04/17/97)

Rule 803 Prevention of Significant Deterioration (Adopted 04/17/97)

Rule 804 Emission Offsets (Adopted 04/17/97)

Rule 805 Air Quality Impact Analysis and Modeling (Adopted 04/17/97)

Rule 808 New Source Review for Major Sources of Hazardous Air Pollutants (Adopted 05/20/99)

Rule 1301 Part 70—Operating Permits—General Information (Adopted 06/19/03)

Rule 1302 Part 70—Operating Permits—Permit Application (Adopted 11/09/93)

Rule 1303 Part 70—Operating Permits—Permits (Adopted 11/09/93)

Rule 1304 Part 70—Operating Permits—Issuance, Renewal, Modification and Reopening (Adopted 11/09/93)

Rule 1305 Part 70—Operating Permits—Enforcement (Adopted 11/09/93)

(7) The following requirements are contained in South Coast Air Quality Management District Requirements Applicable to OCS Sources (Part I, II and III):

Rule 102 Definition of Terms (Adopted 12/3/04)

Rule 103 Definition of Geographical Areas (Adopted 01/9/76)

Rule 104 Reporting of Source Test Data and Analyses (Adopted 01/9/76)

Rule 108 Alternative Emission Control Plans (Adopted 04/6/90)

Rule 109 Recordkeeping for Volatile Organic Compound Emissions (Adopted 08/18/00)

Rule 112 Definition of Minor Violation and Guidelines for Issuance of Notice To Comply (Adopted 11/13/98)

Rule 118 Emergencies (Adopted 12/07/95)

Rule 201 Permit To Construct (Adopted 12/03/04)

Rule 201.1 Permit Conditions in Federally Issued Permits to Construct (Adopted 12/03/04)

Rule 202 Temporary Permit To Operate (Adopted 12/03/04)

Rule 203 Permit To Operate (Adopted 12/03/04)

Rule 204 Permit Conditions (Adopted 03/6/92)

Rule 205 Expiration of Permits To Construct (Adopted 01/05/90)

Rule 206 Posting of Permit To Operate (Adopted 01/05/90)

Rule 207 Altering or Falsifying of Permit (Adopted 01/09/76)

Rule 208 Permit and Burn Authorization for Open Burning (Adopted 12/21/01)

Rule 209 Transfer and Voiding of Permits (Adopted 01/05/90)

Rule 210 Applications (Adopted 01/05/90)

Rule 212 Standards for Approving Permits (Adopted 12/07/95) except (c)(3) and (e)

Rule 214 Denial of Permits (Adopted 01/05/90)

Rule 217 Provisions for Sampling and Testing Facilities (Adopted 01/05/90)

Rule 218 Continuous Emission Monitoring (Adopted 05/14/99)

Rule 218.1 Continuous Emission Monitoring Performance Specifications (Adopted 05/14/99)

Rule 218.1 Attachment A—Supplemental and Alternative CEMS Performance Requirements (Adopted 05/14/99)

Rule 219 Equipment Not Requiring a Written Permit Pursuant to Regulation II (Adopted 6/1/07)

Rule 220 Exemption—Net Increase in Emissions (Adopted 08/07/81)

Rule 221 Plans (Adopted 01/04/85)

Rule 301 Permitting and Associated Fees (Adopted 5/4/07) Except (e)(7) and Table IV

Rule 304 Equipment, Materials, and Ambient Air Analyses (Adopted 5/4/07)

Rule 304.1 Analyses Fees (Adopted 5/4/07)

Rule 305 Fees for Acid Deposition (Rescinded 6/9/06)

Rule 306 Plan Fees (Adopted 5/4/07)

Rule 309 Fees for Regulation XVI (Adopted 5/4/07)

Rule 401 Visible Emissions (Adopted 11/09/01)

Rule 403 Fugitive Dust (Adopted 06/03/05)

Rule 404 Particulate Matter—Concentration (Adopted 02/07/86)

Rule 405 Solid Particulate Matter—Weight (Adopted 02/07/86)

Rule 407 Liquid and Gaseous Air Contaminants (Adopted 04/02/82)

Rule 408 Circumvention (Adopted 05/07/76)

Rule 409 Combustion Contaminants (Adopted 08/07/81)

Rule 429 Start-Up and Shutdown Exemption Provisions for Oxides of Nitrogen (Adopted 12/21/90)

Rule 430 Breakdown Provisions, (a) and (b) Only (Adopted 07/12/96)

Rule 431.1 Sulfur Content of Gaseous Fuels (Adopted 06/12/98)

Rule 431.2 Sulfur Content of Liquid Fuels (Adopted 09/15/00)

Rule 431.3 Sulfur Content of Fossil Fuels (Adopted 05/7/76)

Rule 441 Research Operations (Adopted 05/7/76)

Rule 442 Usage of Solvents (Adopted 12/15/00)

Rule 444 Open Burning (Adopted 12/21/01)

Rule 463 Organic Liquid Storage (Adopted 05/06/05)

Rule 465 Refinery Vacuum-Producing Devices or Systems (Adopted 08/13/99)

Rule 468 Sulfur Recovery Units (Adopted 10/08/76)

Rule 473 Disposal of Solid and Liquid Wastes (Adopted 05/07/76)

Rule 474 Fuel Burning Equipment—Oxides of Nitrogen (Adopted 12/04/81)

Rule 475 Electric Power Generating Equipment (Adopted 08/07/78)

Rule 476 Steam Generating Equipment (Adopted 10/08/76)

Rule 480 Natural Gas Fired Control Devices (Adopted 10/07/77) Addendum to Regulation IV (Effective 1977)

Rule 518 Variance Procedures for Title V Facilities (Adopted 08/11/95)

Rule 518.1 Permit Appeal Procedures for Title V Facilities (Adopted 08/11/95)

Rule 518.2 Federal Alternative Operating Conditions (Adopted 12/21/01)

Rule 701 Air Pollution Emergency Contingency Actions (Adopted 06/13/97)

Rule 702 Definitions (Adopted 07/11/80)

Rule 708 Plans (Rescinded 09/08/95)

Regulation IX Standard of Performance For New Stationary Sources (Adopted 4/6/07)

Reg. X National Emission Standards for Hazardous Air Pollutants (NESHAPS) (Adopted 12/2/05)

Rule 1105.1 Reduction of PM10 And Ammonia Emissions From Fluid Catalytic Cracking Units (Adopted 11/07/03)

Rule 1106 Marine Coating Operations (Adopted 01/13/95)

Rule 1107 Coating of Metal Parts and Products (Adopted 1/6/06)

Rule 1109 Emissions of Oxides of Nitrogen for Boilers and Process Heaters in Petroleum Refineries (Adopted 08/05/88)

Rule 1110 Emissions From Stationary Internal Combustion Engines (Demonstration) (Repealed 11/14/97)

Rule 1110.1 Emissions From Stationary Internal Combustion Engines (Rescinded 06/03/05)

Rule 1110.2 Emissions from Gaseous- and Liquid Fueled Engines (Adopted 06/03/05)

Rule 1113 Architectural Coatings (Adopted 6/9/06)

Rule 1116.1 Lightering Vessel Operations-Sulfur Content of Bunker Fuel (Adopted 10/20/78)

Rule 1121 Control of Nitrogen Oxides From Residential-Type Natural Gas-Fired Water Heaters (Adopted 09/03/04)

Rule 1122 Solvent Degreasers (Adopted 10/01/04)

Rule 1123 Refinery Process Turnarounds (Adopted 12/07/90)

Rule 1125 Metal Container, Closure, and Coil Coating Operations (Adopted 01/13/95)

Rule 1129 Aerosol Coatings (Adopted 03/08/96)

Rule 1132 Further Control of VOC Emissions From High-Emitting Spray Booth Facilities (Adopted 5/5/06)

Rule 1134 Emissions of Oxides of Nitrogen From Stationary Gas Turbines (Adopted 08/08/97)

Rule 1136 Wood Products Coatings (Adopted 06/14/96)

Rule 1137 PM10 Emission Reductions From Woodworking Operations (Adopted 02/01/02)

Rule 1140 Abrasive Blasting (Adopted 08/02/85)

Rule 1142 Marine Tank Vessel Operations (Adopted 07/19/91)

Rule 1146 Emissions of Oxides of Nitrogen From Industrial, Institutional, and Commercial Boilers, Steam Generators, and Process Heaters (Adopted 11/17/00)

Rule 1146.1 Emission of Oxides of Nitrogen From Small Industrial, Institutional, and Commercial Boilers, Steam Generators, and Process Heaters (Adopted 05/13/94)

Rule 1146.2 Emissions of Oxides of Nitrogen from Large Water Heaters and Small Boilers (Adopted 5/5/06)

Rule 1148 Thermally Enhanced Oil Recovery Wells (Adopted 11/05/82)

Rule 1149 Storage Tank Cleaning And Degassing (Adopted 07/14/95)

Rule 1162 Polyester Resin Operations (Adopted 7/8/05)

Rule 1168 Adhesive and Sealant Applications (Adopted 01/07/05)

Rule 1171 Solvent Cleaning Operations (Adopted 7/14/06)

Rule 1173 Control of Volatile Organic Compounds Leaks and Releases From Components at Petroleum Facilities and Chemical Plants (Adopted 6/1/07)

Rule 1176 VOC Emissions From Wastewater Systems (Adopted 09/13/96)

Rule 1178 Further Reductions of VOC Emissions From Storage Tanks at Petroleum Facilities (Adopted 4/7/06)

Rule 1301 General (Adopted 12/07/95)

Rule 1302 Definitions (Adopted 12/06/02)

Rule 1303 Requirements (Adopted 12/06/02)

Rule 1304 Exemptions (Adopted 06/14/96)

Rule 1306 Emission Calculations (Adopted 12/06/02)

Rule 1313 Permits To Operate (Adopted 12/07/95)

Rule 1403 Asbestos Emissions From Demolition/Renovation Activities (Adopted 11/3/06)

Rule 1470 Requirements for Stationary Diesel-Fueled Internal Combustion and Other Compression Ignition Engines (Adopted 6/1/07)

Rule 1605 Credits for the Voluntary Repair of On-Road Motor Vehicles Identified Through Remote Sensing Devices (Adopted 10/11/96)

Rule 1610 Old-Vehicle Scrapping (Adopted 2/12/99)

Rule 1612 Credits for Clean On-Road Vehicles (Adopted 07/10/98)

Rule 1612.1 Mobile Source Credit Generation Pilot Program (Adopted 03/16/01)

Rule 1620 Credits for Clean Off-Road Mobile Equipment (Adopted 07/10/98)

Rule 1701 General (Adopted 08/13/99)

Rule 1702 Definitions (Adopted 08/13/99)

Rule 1703 PSD Analysis (Adopted 10/07/88)

Rule 1704 Exemptions (Adopted 08/13/99)

Rule 1706 Emission Calculations (Adopted 08/13/99)

Rule 1713 Source Obligation (Adopted 10/07/88)

Regulation XVII Appendix (effective 1977)

Rule 1901 General Conformity (Adopted 09/09/94)

Regulation XX Regional Clean Air Incentives Market (Reclaim)

Rule 2000 General (Adopted 05/06/05)

Rule 2001 Applicability (Adopted 05/06/05)

Rule 2002 Allocations for Oxides of Nitrogen (NOX) and Oxides of Sulfur (SOx) (Adopted 01/07/05)

Rule 2004 Requirements (Adopted 4/6/07) except (l)

Rule 2005 New Source Review for RECLAIM (Adopted 05/06/05) except (i)

Rule 2006 Permits (Adopted 05/11/01)

Rule 2007 Trading Requirements (Adopted 4/6/07)

Rule 2008 Mobile Source Credits (Adopted 10/15/93)

Rule 2009 Compliance Plan for Power Producing Facilities (Adopted 01/07/05)

Rule 2010 Administrative Remedies and Sanctions (Adopted 4/6/07)

Rule 2011 Requirements for Monitoring, Reporting, and Recordkeeping for Oxides of Sulfur (SOx) Emissions (Adopted 05/06/05)

Appendix A Volume IV—(Protocol for Oxides of sulfur) (Adopted 05/06/05)

Rule 2012 Requirements for Monitoring, Reporting, and Recordkeeping for Oxides of Nitrogen (NOX) Emissions (Adopted 05/06/05)

Appendix A Volume V—(Protocol for Oxides of Nitrogen) (Adopted 05/06/05)

Rule 2015 Backstop Provisions (Adopted 06/04/04) except (b)(1)(G) and (b)(3)(B)

Rule 2020 RECLAIM Reserve (Adopted 05/11/01)

Rule 2100 Registration of Portable Equipment (Adopted 07/11/97)

Rule 2506 Area Source Credits for NOX and SOX (Adopted 12/10/99)

XXX Title V Permits

Rule 3000 General (Adopted 11/14/97)

Rule 3001 Applicability (Adopted 11/14/97)

Rule 3002 Requirements (Adopted 11/14/97)

Rule 3003 Applications (Adopted 03/16/01)

Rule 3004 Permit Types and Content (Adopted 12/12/97)

Rule 3005 Permit Revisions (Adopted 03/16/01)

Rule 3006 Public Participation (Adopted 11/14/97)

Rule 3007 Effect of Permit (Adopted 10/08/93)

Rule 3008 Potential To Emit Limitations (Adopted 03/16/01)

XXXI Acid Rain Permit Program (Adopted 02/10/95)

(8) The following requirements are contained in Ventura County Air Pollution Control District Requirements Applicable to OCS Sources:

Rule 2 Definitions (Adopted 04/13/04)

Rule 5 Effective Date (Adopted 04/13/04)

Rule 6 Severability (Adopted 11/21/78)

Rule 7 Zone Boundaries (Adopted 06/14/77)

Rule 10 Permits Required (Adopted 04/13/04)

Rule 11 Definition for Regulation II (Adopted 03/14/06)

Rule 12 Applications for Permits (Adopted 06/13/95)

Rule 13 Action on Applications for an Authority To Construct (Adopted 06/13/95)

Rule 14 Action on Applications for a Permit to Operate (Adopted 06/13/95)

Rule 15.1 Sampling and Testing Facilities (Adopted 10/12/93)

Rule 16 BACT Certification (Adopted 06/13/95)

Rule 19 Posting of Permits (Adopted 05/23/72)

Rule 20 Transfer of Permit (Adopted 05/23/72)

Rule 23 Exemptions From Permits (Adopted 09/12/06)

Rule 24 Source Recordkeeping, Reporting, and Emission Statements (Adopted 09/15/92)

Rule 26 New Source Review—General (Adopted 03/14/06)

Rule 26.1 New Source Review—Definitions (Adopted 11/14/06)

Rule 26.2 New Source Review—Requirements (Adopted 05/14/02)

Rule 26.3 New Source Review—Exemptions (Adopted 03/14/06)

Rule 26.6 New Source Review—Calculations (Adopted 03/14/06)

Rule 26.8 New Source Review—Permit To Operate (Adopted 10/22/91)

Rule 26.10 New Source Review—PSD (Adopted 01/13/98)

Rule 26.11 New Source Review—ERC Evaluation At Time of Use (Adopted 05/14/02)

Rule 26.12 Federal Major Modifications (Adopted 06/27/06)

Rule 28 Revocation of Permits (Adopted 07/18/72)

Rule 29 Conditions on Permits (Adopted 03/14/06)

Rule 30 Permit Renewal (Adopted 04/13/04)

Rule 32 Breakdown Conditions: Emergency Variances, A., B.1., and D. only. (Adopted 02/20/79)

Rule 33 Part 70 Permits—General (Adopted 09/12/06)

Rule 33.1 Part 70 Permits—Definitions (Adopted 09/12/06)

Rule 33.2 Part 70 Permits—Application Contents (Adopted 04/10/01)

Rule 33.3 Part 70 Permits—Permit Content (Adopted 09/12/06)

Rule 33.4 Part 70 Permits—Operational Flexibility (Adopted 04/10/01)

Rule 33.5 Part 70 Permits—Time frames for Applications, Review and Issuance (Adopted 10/12/93)

Rule 33.6 Part 70 Permits—Permit Term and Permit Reissuance (Adopted 10/12/93)

Rule 33.7 Part 70 Permits—Notification (Adopted 04/10/01)

Rule 33.8 Part 70 Permits—Reopening of Permits (Adopted 10/12/93)

Rule 33.9 Part 70 Permits—Compliance Provisions (Adopted 04/10/01)

Rule 33.10 Part 70 Permits—General Part 70 Permits (Adopted 10/12/93)

Rule 34 Acid Deposition Control (Adopted 03/14/95)

Rule 35 Elective Emission Limits (Adopted 11/12/96)

Rule 36 New Source Review—Hazardous Air Pollutants (Adopted 10/06/98)

Rule 42 Permit Fees (Adopted 04/10/07)

Rule 44 Exemption Evaluation Fee (Adopted 09/10/96)

Rule 45 Plan Fees (Adopted 06/19/90)

Rule 45.2 Asbestos Removal Fees (Adopted 08/04/92)

Rule 47 Source Test, Emission Monitor, and Call-Back Fees (Adopted 06/22/99)

Rule 50 Opacity (Adopted 04/13/04)

Rule 52 Particulate Matter—Concentration (Grain Loading)(Adopted 04/13/04)

Rule 53 Particulate Matter—Process Weight (Adopted 04/13/04)

Rule 54 Sulfur Compounds (Adopted 06/14/94)

Rule 56 Open Burning (Adopted 11/11/03)

Rule 57 Incinerators (Adopted 01/11/05)

Rule 57.1 Particulate Matter Emissions from Fuel Burning Equipment (Adopted 01/11/05)

Rule 62.7 Asbestos—Demolition and Renovation (Adopted 09/01/92)

Rule 63 Separation and Combination of Emissions (Adopted 11/21/78)

Rule 64 Sulfur Content of Fuels (Adopted 04/13/99)

Rule 67 Vacuum Producing Devices (Adopted 07/05/83)

Rule 68 Carbon Monoxide (Adopted 04/13/04)

Rule 71 Crude Oil and Reactive Organic Compound Liquids (Adopted 12/13/94)

Rule 71.1 Crude Oil Production and Separation (Adopted 06/16/92)

Rule 71.2 Storage of Reactive Organic Compound Liquids (Adopted 09/26/89)

Rule 71.3 Transfer of Reactive Organic Compound Liquids (Adopted 06/16/92)

Rule 71.4 Petroleum Sumps, Pits, Ponds, and Well Cellars (Adopted 06/08/93)

Rule 71.5 Glycol Dehydrators (Adopted 12/13/94)

Rule 72 New Source Performance Standards (NSPS) (Adopted 09/13/05)

Rule 73 National Emission Standards for Hazardous Air Pollutants (NESHAPS (Adopted 09/13/05)

Rule 74 Specific Source Standards (Adopted 07/06/76)

Rule 74.1 Abrasive Blasting (Adopted 11/12/91)

Rule 74.2 Architectural Coatings (Adopted 11/13/01)

Rule 74.6 Surface Cleaning and Degreasing (Adopted 11/11/03—effective 07/01/04)

Rule 74.6.1 Batch Loaded Vapor Degreasers (Adopted 11/11/03—effective 07/01/04)

Rule 74.7 Fugitive Emissions of Reactive Organic Compounds at Petroleum Refineries and Chemical Plants (Adopted 10/10/95)

Rule 74.8 Refinery Vacuum Producing Systems, Waste-Water Separators and Process Turnarounds (Adopted 07/05/83)

Rule 74.9 Stationary Internal Combustion Engines (Adopted 11/08/05)

Rule 74.10 Components at Crude Oil Production Facilities and Natural Gas Production and Processing Facilities (Adopted 03/10/98)

Rule 74.11 Natural Gas-Fired Residential Water Heaters—Control of NOX (Adopted 04/09/85)

Rule 74.11.1 Large Water Heaters and Small Boilers (Adopted 09/14/99)

Rule 74.12 Surface Coating of Metal Parts and Products (Adopted 11/11/03)

Rule 74.15 Boilers, Steam Generators and Process Heaters (Adopted 11/08/94)

Rule 74.15.1 Boilers, Steam Generators and Process Heaters (Adopted 06/13/00)

Rule 74.16 Oil Field Drilling Operations (Adopted 01/08/91)

Rule 74.20 Adhesives and Sealants (Adopted 01/11/05)

Rule 74.23 Stationary Gas Turbines (Adopted 1/08/02)

Rule 74.24 Marine Coating Operations (Adopted 11/11/03)

Rule 74.24.1 Pleasure Craft Coating and Commercial Boatyard Operations (Adopted 01/08/02)

Rule 74.26 Crude Oil Storage Tank Degassing Operations (Adopted 11/08/94)

Rule 74.27 Gasoline and ROC Liquid Storage Tank Degassing Operations (Adopted 11/08/94)

Rule 74.28 Asphalt Roofing Operations (Adopted 05/10/94)

Rule 74.30 Wood Products Coatings (Adopted 06/27/06)

Rule 75 Circumvention (Adopted 11/27/78)

Rule 101 Sampling and Testing Facilities (Adopted 05/23/72)

Rule 102 Source Tests (Adopted 04/13/04)

Rule 103 Continuous Monitoring Systems (Adopted 02/09/99)

Rule 154 Stage 1 Episode Actions (Adopted 09/17/91)

Rule 155 Stage 2 Episode Actions (Adopted 09/17/91)

Rule 156 Stage 3 Episode Actions (Adopted 09/17/91)

Rule 158 Source Abatement Plans (Adopted 09/17/91)

Rule 159 Traffic Abatement Procedures (Adopted 09/17/91)

Rule 220 General Conformity (Adopted 05/09/95)

Rule 230 Notice To Comply (Adopted 11/09/99)

* * * * *

[FR Doc. E8-9092 Filed 4-28-08; 8:45 am]

BILLING CODE 6560-50-P